DEPARTMENT OF DEFENSE

Department of the Navy

[Docket ID: USN-2022-HQ-0022]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by November 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Response to the Marine Corps NAF Debt Collection Notice; NAVMC Form 11787; OMB Control Number 0703-0075.

Type of Request: Revision.

Number of Respondents: 2,080.

Responses per Respondent: 1.

Annual Responses: 2,080.

Average Burden per Response: 15 minutes.

Annual Burden Hours: 520.

Needs and Uses: The information collection requirement is necessary to notify and account for vendors and patrons indebted to Marine Corps Non-appropriated Fund Instrumentality (NAFI) businesses and services for the purpose of repayment management or debt collection dependent on the response option elected by the respondent. Respondents are informed of their alleged debt and use the NAVMC Form 11787, “Response to Marine Corps NAF Debt Collection Notice,” to elect to repay the debt in full, agree to a repayment plan, dispute the debt, or indicate that bankruptcy has been filed.

Affected Public: Business or other for-profit; individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 19, 2022.
Kayyonne T. Marston,
Alternate OSD Federal Register Liaison Officer, Department of Defense.

[FR Doc. 2022-23089 Filed 10-24-22; 8:45 am]

BILLING CODE 5001-06-P